DEPARTMENT OF ENERGY

Federal Energy Regulatory Commission

[Docket No. IC22-1-000]

Commission Information Collection Activities (Ferc-725); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-725 (Certification of Electric Reliability Organization; Procedures for Electric Reliability Standards).

DATES: Comments on the collection of information are due January 3, 2022.

ADDRESSES: You may submit your comments (identified by Docket No. IC22-1-000) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

Title: FERC-725, Certification of Electric Reliability Organization; Procedures for Electric Reliability Standards.

OMB Control No.: 1902-0225.

Type of Request: Three-year extension of the FERC-725 information collection requirements with no changes to the current reporting and recordkeeping requirements.

Abstract: The FERC-725 contains the following information collection elements: Self Assessment and ERO (Electric Reliability Organization) Application: The Commission requires the ERO to submit to FERC a performance assessment report every five years. The next assessment is due in 2024. Each Regional Entity submits a performance assessment report to the ERO.

Submitting an application to become the ERO is also part of this collection.¹

¹ The Commission does not expect any new ERO applications to be submitted in the next five years and is not including any burden for this requirement in the burden estimate. FERC still seeks to renew the regulations pertaining to a new ERO application under this renewal but is expecting the burden to be zero for the foreseeable future. 18 CFR 39.3 contains the regulation pertaining to ERO applications.

Reliability Assessments: 18 CFR 39.11 requires the ERO to assess the reliability and adequacy of the Bulk-Power System in North America. Subsequently, the ERO must report to the Commission on its findings. Regional entities perform similar assessments within individual regions. Currently the ERO submits to FERC three assessments each year: Long term, winter, and summer. In addition, the North American Electric Reliability Corporation (NERC, the Commission-approved ERO) also submits various other assessments as needed.

Reliability Standards Development: Under section 215 of the Federal Power Act (FPA),² the ERO is charged with developing Reliability Standards. Regional Entities may also develop regional specific standards and have standard experts on staff to work with entities below the regional level.

² 16 U.S.C. 824o.

Reliability Compliance: Reliability Standards are mandatory and enforceable upon approval by the Commission. In addition to the specific information collection requirements contained in each standard (cleared under other information collections), there are general compliance, monitoring and enforcement information collection requirements imposed on applicable entities. Audits, spot checks, self-certifications, exception data submittals, violation reporting, and mitigation plan confirmation are included in this area.

Stakeholder Survey: The ERO uses a stakeholder survey to solicit feedback from registered entities ³ in preparation for its five year self-performance assessment. The Commission assumes that the ERO will perform another survey prior to the 2024 self-assessment.

³ A “registered entity” is an entity that is registered with the ERO. All Bulk-Power System owners, operators and users are required to register with the ERO. Registration is the basis for determining the Reliability Standards with which an entity must comply. See http://www.nerc.com/page.php?cid=3%7C25 for more details.

Other Reporting: This category refers to all other reporting requirements imposed on the ERO or regional entities in order to comply with the Commission's regulations. For example, FERC may require NERC to submit a special reliability assessment or inquiry. This category captures these types of one-time filings required of NERC or the Regions. The Commission implements its responsibilities through 18 CFR part 39.

Type of Respondent: Electric Reliability Organization, Regional entities, and registered entities.

Estimate of Annual Burden: ⁴ The Commission estimates the total annual burden and cost ⁵ for this information collection in the table below. For hourly cost (for wages and benefits), we estimate that 70% of the time is spent by Electrical Engineers (code 17-2071, at $72.15/hr.), 20% of the time is spent by Legal (code 23-0000, at $142.25/hr.), and 10% by Office and Administrative Support (code 43-0000, at $44.47/hr.). Therefore, we use the weighted hourly cost (for wages and benefits) of $83.40 (rounded) {or [(0.70) * ($72.15/hr.)] + [(0.20) * $142.25/hr.] + [(0.10) * $44.47/hr.]}.

⁴ “Burden” is the total time, effort, or financial resources expended by persons to generate, maintain, retain, or disclose or provide information to or for a Federal agency. For further explanation of what is included in the information collection burden, refer to Title 5 Code of Federal Regulations 1320.3.

⁵ Costs (for wages and benefits) are based on wage figures from the Bureau of Labor Statistics (BLS) for May 2021 (at https://www.bls.gov/oes/current/naics2_22.htm) and benefits information (at https://www.bls.gov/news.release/ecec.nr0.html.)

⁶ In instances where the number of responses per respondent is “1,” the Commission Staff thinks that the actual number of responses varies and cannot be estimated accurately.

FERC-725, Certification of Electric Reliability Organization; Procedures for Electric Reliability Standards
Type of respondent | Type of reporting requirement | Number of respondents | Annual number of responses per respondent | Total number of responses | Average burden hours & cost ($) per response (rounded) | Estimated total annual burden hrs. & cost ($) (rounded)
|  | (A) | (B) ⁶ | (A) × (B) = (C) | (D) | (C) × (D)
Electric Reliability Organization (ERO) | Self-Assessment |  | .2 | .2 | 4,160 hrs.; $346,950 | 832 hrs.; $69,390.
| Reliability Assessments |  | 5.0 | 5.0 | 10,400 hrs.; $867,360 | 52,000 hrs.; $4,336,800.
| Reliability Compliance |  | 2 | 2 | 17,680 hrs.; $1,474,512 | 35,360 hrs.; $2,949,024.
| Standards Development |  | 1 | 1 | 20,800 hrs.; $1,734,720 | 35,360 hrs.; $2,949,024.
| Other Reporting | 1 | 1 | 1 | 4,160 hrs.; $346,944 | 4,160 hrs.; $346,944.
ERO, Sub-Total |  |  |  |  |  | 113,152 hrs.; $9,436,877.
Regional Entities | Self-Assessment |  | .2 | 1.2 | 4,160 hrs.; $346,944 | 4,992 hrs.; $416,332.8.
| Reliability Assessments |  | 1 | 6 | 15,600 hrs.; $1,301,040 | 93,600 hrs.; $7,806,240.
| Reliability Compliance |  | 1 | 6 | 47,840 hrs.; $3,989,856 | 287,040 hrs.; $23,939,136.
| Standards Development |  | 1 | 6 | 4,680 hrs.; $390,312 | 28,080 hrs.; $2,341,872.
| Other Reporting | 6 | 1 | 6 | 1,040 hrs.; $86,736 | 7,280 hrs.; $607,152.
Regional Entities, Sub-Total |  |  |  |  |  | 420,992 hrs.; $35,110,732.6.
Registered Entities | Stakeholder Survey |  | .2 | 299.2 | 8 hrs.; $667.20 | 2,393.6 hrs.; $199,626.2.
| Reliability Compliance | * 1,496 | 1 | 1,496 | 400 hrs.; $33,360 | 598,400 hrs.; $49,906,186.
Registered Entities, Sub-Total |  |  |  |  |  | 600,793.60 hrs.; $50,106,186.
Total Burden Hrs. and Cost |  |  |  |  |  | 1,134,938 hrs.; $94,653,796.
* Estimated.

As indicated in the table, there was a decrease from seven to six in the number of Regional Entities because the Florida Reliability Coordinating Council (FRCC) dissolved in July 2019. Other changes from previous estimates are based on new data in the proposed NERC 2022 Business Plan and Budget to reflect changes in the number of FTEs (full-time equivalent employees) working in applicable areas. Reviewing the NERC Compliance database, we determined the number of unique U.S. entities is 1,496 (compared to the previous value of 1,409). Lastly, in several instances, the amount of time an FTE devotes to a given function may have been increased or decreased.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: October 28, 2021.
Kimberly D. Bose,
Secretary.

[FR Doc. 2021-23962 Filed 11-2-21; 8:45 am]

BILLING CODE 6717-01-P